NATIONAL AERONAUTICS AND SPACE ADMINISTRATION

[Notice 01-049]

U.S. Centennial of Flight Commission; Notice of Meeting Cancellation

AGENCY: National Aeronautics and Space Administration.

Federal Register Citation of Previous Announcement: 66FR65.

Notice Number 01-041, April 4, 2001.

Previously Announced Dates of Meeting: Wednesday, April 26, 2001, 1 p.m. to 4 p.m. Meeting has been cancelled.

FOR FURTHER INFORMATION CONTACT: Ms. Beverly Farmarco, Code ZC, National Aeronautics and Space Administration, Washington, DC 20546, 202/358-1903.

Dated: April 18, 2001.
Beth M. McCormick,
Advisory Committee Management Officer, National Aeronautics and Space Administration.

[FR Doc. 01-9974 Filed 4-20-01; 8:45 am]

BILLING CODE 7510-01-P